NATIONAL SCIENCE FOUNDATION

Proposal Review Panel for Materials Research; Notice of Meeting

In accordance with the Federal Advisory Committee Act (Pub. L. 92-463 as amended), the National Science Foundation announces the following meeting:

Name: Site Visit review of the Materials Research Science and Engineering Center (MRSEC) at Northwestern University, also called the Multifunctional Nanoscale Material Structures Materials Research Science and Engineering Center, by NSF Division of Materials Research (DMR) #1203.

Dates & Times: March 14, 2013, 7:45 a.m.-5:00 p.m.

Place: Northwestern University, Evanston, IL.

Type of Meeting: Part-open.

Contact Person: Dr. Sean L. Jones, Program Director, Materials Research Science and Engineering Centers Program, Division of Materials Research, Room 1065, National Science Foundation, 4201 Wilson Boulevard, Arlington, VA 22230, Telephone (703) 292-2986.

Purpose of Meeting: To provide advice and recommendations concerning further support of the MRSEC at Northwestern University.

AGENDA

Thursday, March 14, 2013

7:45 a.m.-9:00 a.m. Closed—Executive Session

9:00 a.m.-4:15 p.m. Open—Review of the Northwestern MRSEC

4:15 p.m.-5:00 p.m. Closed—Executive Session

Reason For Closing: The work being reviewed may include information of a proprietary or confidential nature, including technical information; financial data, such as salaries and personal information concerning individuals associated with the proposals. These matters are exempt under 5 U.S.C. 552 b(c), (4) and (6) of the Government in the Sunshine Act.

Dated: February 14, 2013.
Susanne Bolton,
Committee Management Officer.

[FR Doc. 2013-03812 Filed 2-19-13; 8:45 am]

BILLING CODE 7555-01-P